INTERNATIONAL TRADE COMMISSION

[Investigation No. 337-TA-670]

In the Matter of Certain Adjustable Keyboard Support Systems and Components Thereof; Notice of a Commission Determination Not To Review an Initial Determination Amending the Complaint and Notice of Investigation

AGENCY: U.S. International Trade Commission.

ACTION: Notice.

SUMMARY: Notice is hereby given that the U.S. International Trade Commission has determined not to review an initial determination (“ID”) (Order No.4) of the presiding administrative law judge (“ALJ”) in the above-captioned investigation amending the complaint and notice of investigation to correct the name of a respondent.

FOR FURTHER INFORMATION CONTACT: Michael K. Haldenstein, Office of the General Counsel, U.S. International Trade Commission, 500 E Street, SW., Washington, DC 20436, telephone (202) 205-3041. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 9, 2009, under section 337 of the Tariff Act of 1930, as amended, 19 U.S.C. 1337, based on a complaint filed on February 10, 2009, by Humanscale Corporation of New York, New York. The Commission named the following two companies as respondents: CompX International, Inc., of Dallas, Texas and CompX Waterloo, of Ontario, Canada. The complaint alleged violations of section 337 based upon the importation into the United States, the sale for importation, and the sale within the United States after importation of certain adjustable keyboard support systems and components thereof that infringe certain claims of U.S. Patent No. 5,292,097. The complaint further alleged that an industry in the United States exists as required by subsection (a)(2) of section 337. The complainant requested that the Commission issue a limited exclusion order and a cease and desist order.

The ALJ issued the subject ID (Order No. 4) on April 20, 2009. The ID corrects the name of a respondent, essentially amending the complaint and notice of investigation. The complaint and notice of investigation named CompX Waterloo as a proposed respondent, but the correct name for the respondent is “Waterloo Furniture Components Ltd.” No petitions for review were filed and the Commission has determined not to review the ID.

This action is taken under the authority of section 337 of the Tariff Act of 1930, as amended, 19 U.S.C. 1337, and Commission rule 210.42, 19 CFR 210.42.

By order of the Commission.
Issued: May 8, 2009.
Marilyn R. Abbott,
Secretary to the Commission.

[FR Doc. E9-11365 Filed 5-14-09; 8:45 am]

BILLING CODE 7020-02-P